OFFICE OF PERSONNEL MANAGEMENT

Excepted Service

AGENCY: U.S. Office of Personnel Management (OPM).

ACTION: Notice.

SUMMARY: This notice identifies Schedule A, B, and C appointing authorities applicable to a single agency that were established or revoked from December 1, 2014, to December 31, 2014.

FOR FURTHER INFORMATION CONTACT: Senior Executive Resources Services, Senior Executive Services and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

06. Department of Defense (Schedule A, 213.3106)

(b) Entire Department (including the Office of the Secretary of Defense and the Departments of the Army, Navy, and Air Force)—

(11) Not to exceed 3,000 positions that require unique cybersecurity skills and knowledge to perform cyber risk and strategic analysis, incident handling and malware/vulnerability analysis, program management, distributed control systems security, cyber incident response, cyber exercise facilitation and management, cyber vulnerability detection and assessment, network and systems engineering, enterprise architecture, investigation, investigative analysis and cyber-related infrastructure inter-dependency analysis. This authority may be used to make permanent, time-limited and temporary appointments in the following occupational series: Security (GS-0080), computer engineers (GS-0854), electronic engineers (GS-0855), computer scientists (GS-1550), operations research (GS-1515), criminal investigators (GS-1811), telecommunications (GS-0391), and IT specialists (GS-2210). Within the scope of this authority, the U.S. Cyber Command is also authorized to hire miscellaneous administrative and program (GS-0301) series when those positions require unique cybersecurity skills and knowledge. All positions will be at the General Schedule (GS) grade levels 09-15 or equivalent. No new appointments may be made under this authority after December 31, 2015.

Schedule B

No Schedule B authorities to report during December 2014.

Schedule C

The following Schedule C appointing authorities were approved during December 2014.

Agency name | Organization name | Position title | Authorization no. | Effective date
DEPARTMENT OF AGRICULTURE | Office of Civil Rights | Special Assistant | DA150022 | 12/1/2014
| Office of the Under Secretary for Marketing and Regulatory Programs | Confidential Assistant | DA150023 | 12/12/2014
| Rural Business Service | Deputy Administrator, Rural Business Cooperative Service | DA150025 | 12/12/2014
DEPARTMENT OF COMMERCE | International Trade Administration | Deputy Director, Office of Advisory Committees, Industry and Analysis | DC150024 | 12/5/2014
| Office of the Deputy Secretary | Special Assistant | DC150026 | 12/9/2014
| Office of Business Liaison | Special Advisor | DC150027 | 12/9/2014
| Office of the Chief of Staff | Director of Scheduling | DC150031 | 12/12/2014
DEPARTMENT OF DEFENSE | Office of Assistant Secretary of Defense (Public Affairs) | Research Assistant Speechwriter | DD150012 DD150030 | 12/5/2014 12/8/2014
| Office of the Assistant Secretary of Defense (International Security Affairs) | Special Assistant for International Security Affairs | DD150037 | 12/10/2014
| Office of the General Counsel | Special Counsel (2) | DD150033 DD150032 | 12/4/2014 12/11/2014
| Office of Assistant Secretary of Defense (Legislative Affairs) | Special Assistant | DD150034 | 12/16/2014
DEPARTMENT OF THE AIR FORCE | Office of the Under Secretary | Special Assistant | DF150011 | 12/5/2014
DEPARTMENT OF THE NAVY | Office of the Secretary | Deputy Chief of Staff (2) | DN150008 DN150009 | 12/5/2014 12/5/2014
|  | Special Assistant | DN150004 | 12/12/2014
DEPARTMENT OF EDUCATION | Office of Communications and Outreach | Confidential Assistant | DB150026 | 12/11/2014
| Office of the Secretary | Confidential Assistant | DB150028 | 12/11/2014
| Office of the General Counsel | Chief of Staff | DB150031 | 12/12/2014
| Office of the Under Secretary | Deputy Director | DB150027 | 12/11/2014
|  | Confidential Assistant | DB150036 | 12/19/2014
DEPARTMENT OF ENERGY | Office of Nuclear Energy | Chief of Staff and Senior Advisor | DE150013 | 12/2/2014
| Office of Energy Efficiency & Renewable Energy | Special Advisor for Technology | DE150017 | 12/12/2014
FEDERAL ENERGY REGULATORY COMMISSION | Office of the Chairman | Program Analyst | DR150004 | 12/17/2014
GENERAL SERVICES ADMINISTRATION | Public Buildings Service | Special Assistant | GS150008 | 12/11/2014
DEPARTMENT OF HEALTH AND HUMAN SERVICES | Office of Intergovernmental and External Affairs | Special Assistant | DH150044 | 12/12/2014
| Office of the Assistant Secretary for Legislation | Special Assistant for Oversight | DH150048 | 12/12/2014
DEPARTMENT OF HOMELAND SECURITY | Office of the Assistant Secretary for Public Affairs | External Engagement Coordinator | DM150035 | 12/3/2014
| Office of the Assistant Secretary for Policy | Policy Advisor | DM150040 | 12/5/2014
| Immediate Office of the Deputy Secretary | Special Assistant | DM150041 | 12/5/2014
DEPARTMENT OF HOUSING AND URBAN DEVELOPMENT | Office of the Secretary | Senior Policy Advisor | DU150009 | 12/1/2014
| Office of Public and Indian Housing | Chief of Staff/Senior Advisor | DU150008 | 12/16/2014
| Office of Congressional and Intergovernmental Relations | Congressional Relations Specialist | DU150016 | 12/29/2014
| Office of Public Affairs | Director of Speechwriting | DU150019 | 12/29/2014
DEPARTMENT OF THE INTERIOR | United States Fish and Wildlife Service | Chief of Staff—To the Assistant Secretary for Fish Wildlife and Parks | DI150016 | 12/3/2014
DEPARTMENT OF LABOR | Office of the Secretary | Special Assistant | DL150015 | 12/2/2014
|  | Director of Public Engagement | DL150017 | 12/5/2014
| Office of the Assistant Secretary for Policy | Senior Policy Advisor | DL150018 | 12/11/2014
NATIONAL ENDOWMENT FOR THE ARTS | National Endowment for the Arts | White House Liaison/Advisor | NA150002 | 12/5/2014
NATIONAL ENDOWMENT FOR THE HUMANITIES | National Endowment for the Humanities | Director of Congressional Affairs | NH150002 | 12/12/2014
OFFICE OF MANAGEMENT AND BUDGET | Office of Information and Regulatory Affairs | Confidential Assistant | BO150007 | 12/11/2014
DEPARTMENT OF STATE | Bureau of Public Affairs | Staff Assistant | DS150009 | 12/10/2014
DEPARTMENT OF THE TREASURY | Office of Financial Markets | Senior Advisor | DY150014 | 12/3/2014

The following Schedule C appointing authorities were revoked during December 2014.

Agency name | Organization name | Position title | Authorization No. | Vacate date
DEPARTMENT OF COMMERCE | Office of White House Liaison | Special Assistant | DC140087 | 12/14/2014
DEPARTMENT OF HOMELAND SECURITY | Federal Emergency Management Agency | Special Assistant | DM140127 | 12/5/2014
| Immediate Office of the Deputy Secretary | Special Assistant to the Deputy Secretary | DM140108 | 12/13/2014
| Office of the Assistant Secretary for Policy | Policy Advisor | DM140227 | 12/13/2014
DEPARTMENT OF HOUSING AND URBAN DEVELOPMENT | Office of Public and Indian Housing Office of Congressional and Intergovernmental Relations | Special Assistant General Deputy Assistant Secretary for Congressional Relations | DU090110 DU130050 | 12/27/2014 12/27/2014
DEPARTMENT OF THE NAVY | Office of the Under Secretary of the Navy | Special Assistant | DN120047 | 12/13/2014
NATIONAL AERONAUTICS AND SPACE ADMINISTRATION | Office of General Counsel | Special Assistant | NN120002 | 12/13/2014

Authority: 5 U.S.C. 3301 and 3302; E.O. 10577, 3 CFR, 1954-1958 Comp., p. 218.

U.S. Office of Personnel Management.
Katherine Archuleta,
Director.

[FR Doc. 2015-05185 Filed 3-4-15; 8:45 am]

BILLING CODE 6325-39-P